DEPARTMENT OF THE INTERIOR

Bureau of Land Management

[WO-220-1020-PB-24 1A]

Extension of Approved Information Collection, OMB Approval Number 1004-0041

AGENCY: Bureau of Land Management, Interior.

ACTION: Notice and request for comments.

SUMMARY: In accordance with the Paperwork Reduction Act of 1995, the Bureau of Land Management (BLM) is requesting the Office of Management and Budget (OMB) to extend an existing approval to collect information from grazing operators who request changes to their BLM approved grazing permits or leases. BLM uses Form 4130-3a (Automated Grazing Application, formerly Grazing Preference Statement) to show the grazing operator the terms and conditions of the grazing use schedules their permit or lease authorizes and to provide the operator an opportunity to apply for changes for the upcoming grazing season.

DATES: You must submit your comments to BLM at the address below on or before October 1, 2001. BLM will not necessarily consider any comments received after the above date.

ADDRESSES: You may mail comments to: Regulatory Affairs Group (630), Bureau of Land Management, Mailstop 401LS, 1849 C Street, NW., Washington, DC 20240.

You may send comments via Internet to: WOComment@blm.gov. Please include “ATTN: 1004-0041” and your name and return address in your Internet message.

You may deliver comments to the Bureau of Land Management, Administrative Record, Room 401, 1620 L Street, NW., Washington, DC.

Comments will be available for public review at the L Street during regular business hours (7:45 a.m. to 4:15 p.m.) Monday through Friday.

FOR FURTHER INFORMATION CONTACT: You may contact Ken Visser on (202) 452-7743 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM administers the livestock grazing program consistent with land-use plans, multiple-use objectives, sustained yield, environmental values, economic considerations, and other factors. When BLM authorizes livestock use on public lands it is an important and integral part of program administration. The implementing regulations (43 CFR 4130.1) provide for the timely filing of applications for grazing permits or leases, free-use grazing permits, and other authorized grazing uses with the appropriate BLM office.

BLM will continue to use Form 4130-3a to document applications for livestock grazing use on public lands and to annually amend authorized grazing levels within the terms and conditions of existing permits or leases. The BLM requests information that the applicant either confirms or changes to reflect their desired grazing use, include the name and number of the grazing allotment to verify the authorized location, the number of livestock and periods of use for billing purposes, the recorded brands to verify ownership, and if requested, reasons for any nonuse. Without this information, BLM would not be able to properly administer uses of the public lands as required by law and resulting in unauthorized use, improper billings, and nonpayment of fees due the Federal Government.

Based upon BLM experience and recent tabulations of activity, we process approximately 7,665 applications each year. The public reporting information collection burden takes 14 minutes. Depending on the complexity of the applications, some responses vary from 5 minutes to 30 minutes to complete. We estimate 7,665 responses per year and a total annual burden of 1,794 hours.

BLM will summarize all response to this notice and include them in the request for OMB approval. All comments will become a matter of public record.

Dated: July 16, 2001.
Michael H. Schwartz,
BLM Information Collection Clearance Officer.

[FR Doc. 01-19038 Filed 7-30-01; 8:45 am]

BILLING CODE 4310-84-M